COMMODITY FUTURES TRADING COMMISSION

Sunshine Act Meetings

TIME AND DATE: 10 a.m. EDT, Thursday, September 8, 2016.

PLACE: CFTC Headquarters Lobby-Level Hearing Room, Three Lafayette Centre, 1155 21st Street NW., Washington, DC.

STATUS: Open.

MATTERS TO BE CONSIDERED: The Commission will hold this meeting to consider two final rules and a comparability determination. The agenda for this meeting is available to the public and posted on the Commission's Web site at http://www.cftc.gov. In the event that the time, date, or place of this meeting changes, an announcement of the change, along with the new time, date, or place of the meeting, will be posted on the Commission's Web site.

CONTACT PERSON FOR MORE INFORMATION: Christopher J. Kirkpatrick, Secretary of the Commission, 202-418-5964.

Christopher J. Kirkpatrick,
Secretary of the Commission.

[FR Doc. 2016-21537 Filed 9-2-16; 11:15 am]

BILLING CODE 6351-01-P